DEPARTMENT OF HOMELAND SECURITY

Coast Guard

33 CFR Part 117

[Docket No. USCG-2014-0761]

Drawbridge Operation Regulation; Middle River, Between Bacon Island and Lower Jones Tract, CA

AGENCY: Coast Guard, DHS.

ACTION: Notice of deviation from drawbridge regulation.

SUMMARY: The Coast Guard has issued a temporary deviation from the operating schedule that governs the Bacon Island Road Drawbridge across Middle River, mile 8.6, between Bacon Island and Lower Jones Tract, CA. The deviation is necessary to allow the bridge owner to perform structural maintenance work to the bridge. This deviation allows the bridge to remain in the closed-to-navigation position during the deviation period.

DATES: This deviation is effective without actual notice from September 23, 2014 through 5 p.m. on October 23, 2014. For the purposes of enforcement, actual notice will be used from 9 a.m. on September 8, 2014, until September 23, 2014.

ADDRESSES: The docket for this deviation, [USCG-2014-0761], is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email David H. Sulouff, Chief, Bridge Section, Eleventh Coast Guard District; telephone 510-437-3516, email David.H.Sulouff@uscg.mil. If you have questions on viewing the docket, call Cheryl Collins, Program Manager, Docket Operations, telephone 202-366-9826.

SUPPLEMENTARY INFORMATION: San Joaquin County Department of Public Works has requested a temporary change to the operation of the Bacon Island Road Drawbridge, mile 8.6, over Middle River, between Bacon Island and Lower Jones Tract, CA. The drawbridge navigation span provides approximately 8 feet vertical clearance above Mean High Water in the closed-to-navigation position. In accordance with 33 CFR 117.171(a), the draw opens on signal from May 15 through September 15 from 9 a.m. to 5 p.m. From September 16 through May 14, the draw opens on signal from 9 a.m. to 5 p.m. from Thursday through Monday. At all other times, the draw shall open on signal if at least 12 hours notice is given to the San Joaquin County Department of Public Works at Stockton. Navigation on the waterway is commercial and recreational.

The drawspan will be secured in the closed-to-navigation position from 9 a.m. on September 8, 2014 to 5 p.m. on October 23, 2014, due to structural maintenance work in replacing the approach deck slabs. The work will require loss of power to the bridge electrical systems. This temporary deviation has been coordinated with the waterway users. No objections to the proposed temporary deviation were raised.

Vessels able to pass through the bridge in the closed position may do so at any time. The bridge will not be able to open for emergencies. Old River can be used as an alternate route for vessels unable to pass through the bridge in the closed position. The Coast Guard will inform waterway users of this temporary deviation via our Local and Broadcast Notices to Mariners, to minimize resulting navigational impacts.

In accordance with 33 CFR 117.35(e), the drawbridge must return to its regular operating schedule immediately at the end of the effective period of this temporary deviation. This deviation from the operating regulations is authorized under 33 CFR 117.35.

Dated: September 4, 2014.
D.H. Sulouff,
District Bridge Chief, Eleventh Coast Guard District.

[FR Doc. 2014-22588 Filed 9-22-14; 8:45 am]

BILLING CODE 9110-04-P